SOCIAL SECURITY ADMINISTRATION

[Docket No. SSA-2018-0025]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions, and extensions, of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov

(SSA)

Social Security Administration, OLCA, Attn: Reports Clearance Director, 3100 West High Rise, 6401 Security Blvd., Baltimore, MD 21235. Fax: 410-966-2830 Email address: OR.Reports.Clearance@ssa.gov

Or you may submit your comments online through www.regulations.gov, referencing Docket ID Number [SSA-2018-0025].

I. The information collections below are pending at SSA. SSA will submit them to OMB within 60 days from the date of this notice. To be sure we consider your comments, we must receive them no later than August 7, 2018. Individuals can obtain copies of the collection instruments by writing to the above email address.

1. Fee Agreement for Representation before the Social Security Administration—0960—NEW. Under the Social Security Act (Act), SSA requires individuals who represent a claimant before the agency and want to receive a fee for their services to obtain SSA's authorization of the fee. One way to obtain the authorization is to submit the fee agreement. To facilitate this process, individuals can use Form SSA-1693. SSA uses the information from the SSA-1693 to review the request and authorize any fee to representatives who seek to charge and collect a fee from a claimant. The respondents are the representatives who help claimants through the application process.

Note: SSA originally published this Notice on November 22, 2017, at 82 FR 55707, and received several public comments. In response to those public comments, SSA revised the SSA-1693, and is republishing this Notice.

Type of Request: Request for a new information collection.

Modality of completion | Number of respondents | Frequency of response | Average burden of response (minutes) | Estimated total annual burden (hours)
SSA-1693 | 600,000 | 1 | 12 | 120,000

2. State Supplementation Provisions: Agreement; Payments—20 CFR 416.2095-416.2098, and 20 CFR 416.2099—0960-0240. Section 1618 of the Act requires those states administering their own supplementary income payment program(s) to demonstrate compliance with the Act by passing Federal cost-of-living increases on to individuals who are eligible for state supplementary payments, and informing SSA of their compliance. In general, states report their supplementary payment information annually by the maintenance-of-payment levels method. However, SSA may ask them to report up to four times in a year by the total-expenditures method. Regardless of the method, the states confirm their compliance with the requirements, and provide any changes to their optional supplementary payment rates. SSA uses the information to determine each state's compliance or noncompliance with the pass-along requirements of the Act to determine eligibility for Medicaid reimbursement. If a state fails to keep payments at the required level, it becomes ineligible for Medicaid reimbursement under Title XIX of the Act. Respondents are state agencies administering supplemental programs.

Type of Request: Extension of an OMB-approved information collection.

Modality of completion | Number of respondents | Frequency of Response | Number of responses | Average burden per response (minutes) | Estimated total annual burden (hours)
Total Expenditures | 7 | 4 | 28 | 60 | 28
Maintenance of Payment Levels | 26 | 1 | 26 | 60 | 26
Total | 33 |  |  |  | 54

3. Substitution of Party Upon Death of Claimant—20 CFR 404.957(c)(4) and 416.1457(c)(4)—0960-0288. An administrative law judge (ALJ) may dismiss a request for a hearing on a pending claim of a deceased individual for Social Security benefits or Supplemental Security Income (SSI) payments. Individuals who believe the dismissal may adversely affect them may complete Form HA-539, which allows them to request to become a substitute party for the deceased claimant. The ALJs and the hearing office support staff use the information from the HA-539 to: (1) Maintain a written record of request; (2) establish the relationship of the requester to the deceased claimant; (3) determine the substituted individual's wishes regarding an oral hearing or decision on the record; and (4) admit the data into the claimant's official record as an exhibit. The respondents are individuals requesting to be substitute parties for a deceased claimant.

Type of Request: Revision of an OMB-approved information collection.

Modality of completion | Number of respondents | Frequency of response | Average burden of response (minutes) | Estimated total annual burden (hours)
HA-539 | 4,000 | 1 | 5 | 333

4. Claimant Statement about Loan of Food or Shelter; Statement about Food or Shelter Provided to Another—20 CFR 416.1130-416.1148—0960-0529. SSA bases an SSI claimant or recipient's eligibility on need, as measured by the amount of income an individual receives. Per our calculations, income includes other people providing in-kind support and maintenance in the form of food and shelter to SSI applicants or recipients. SSA uses Forms SSA-5062 and SSA-L5063 to obtain statements about food or shelter provided to SSI claimants or recipients. SSA uses this information to determine whether food or shelters are bona fide loans or income for SSI purposes. This determination may affect claimants' or recipients' eligibility for SSI as well as the amounts of their SSI payments. The respondents are claimants and recipients for SSI payments, and individuals who provide loans of food or shelter to them.

Type of Request: Revision of an OMB-approved information collection.

Modality of completion | Number of respondents | Frequency of response | Average burden of response (minutes) | Estimated total annual burden (hours)
SSA-5062 Paper form | 30,632 | 1 | 10 | 5,105
SSA-L5063 Paper form | 30,632 | 1 | 10 | 5,105
SSA-5062 SSI Claim System | 30,632 | 1 | 10 | 5,105
SSA-L5063 SSI Claim System | 30,632 | 1 | 10 | 5,105
Total | 122,528 |  |  | 20,420

5. Testimony by Employees and the Production of Records and Information in Legal Proceedings—20 CFR 403.100-403.155-0960-0619. Regulations at 20 CFR 403.100-403.155 of the Code of Federal Regulations establish SSA's policies and procedures for an individual; organization; or government entity to request official agency information, records, or testimony of an agency employee in a legal proceeding when the agency is not a party. The request, which respondents submit in writing to SSA, must: (1) Fully set out the nature and relevance of the sought testimony; (2) explain why the information is not available by other means; (3) explain why it is in SSA's interest to provide the testimony; and (4) provide the date, time, and place for the testimony. Respondents are individuals or entities who request testimony from SSA employees in connection with a legal proceeding.

Type of Request: Extension of an OMB-approved information collection.

Modality of completion | Number of respondents | Frequency of response | Average burden of response (minutes) | Estimated total annual burden (hours)
20 CFR 403.100-403.155 | 100 | 1 | 60 | 100

6. Function Report Adult-Third Party—20 CFR 404.1512 & 416.912-0960-0635. Individuals receiving or applying for Social Security Disability Insurance (SSDI) or SSI provide SSA with medical evidence and other proof SSA requires to prove their disability. SSA, and Disability Determination Services (DDS) on our behalf, collect this information using Form SSA-3380-BK. We use the information to document how claimant's disabilities affect their ability to function, and to determine eligibility for SSI and SSDI claims. The respondents are third parties familiar with the functional limitations (or lack thereof) of claimants who apply for SSI and SSDI benefits.

Type of Request: Revision of an OMB approved information collection.

Modality of completion | Number of respondents | Frequency of response | Average burden of response (minutes) | Estimated total annual burden (hours)
SSA-3380-BK | 709,700 | 1 | 61 | 721,528

7. Request for Deceased Individual's Social Security Record—20 CFR 402.130-0960-0665. When a member of the public requests an individual's Social Security record, SSA needs the name and address of the requestor as well as a description of the requested record to process the request. SSA uses the information the respondent provides on Form SSA-711, or via an internet request through SSA's electronic Freedom of Information Act (eFOIA) website to: (1) Verify the wage earner is deceased; and (2) access the correct Social Security record. Respondents are members of the public requesting deceased individuals' Social Security records.

Type of Request: Revision of an OMB-approved information collection.

Modality of completion | Number of respondents | Frequency of response | Average burden of response (minutes) | Estimated total annual burden (hours)
Internet Request through eFOIA | 49,800 | 1 | 7 | 5,810
SSA-711 (paper) | 200 | 1 | 7 | 23
Total | 50,000 |  |  | 5,833

8. Certification of Prisoner Identity Information—20 CFR 422.107-0960-0688. Inmates of Federal, State, or local prisons may need a Social Security card as verification of their Social Security number for school or work programs, or as proof of employment eligibility upon release from incarceration. Before SSA can issue a replacement Social Security card, applicants must show SSA proof of their identity. People who are in prison for an extended period typically do not have current identity documents. Therefore, under formal written agreement with the correctional institution, SSA allows prison officials to verify the identity of certain incarcerated U.S. citizens who need replacement Social Security cards. Information prison officials provide comes from the official prison files, sent on correctional facility letterhead. SSA uses this information to establish the applicant's identity in the replacement Social Security card process. The respondents are prison officials who certify the identity of prisoners applying for replacement Social Security cards.

Type of Request: Extension of an OMB-approved Information Collection.

Modality of completion | Number of respondents | Frequency of response | Number of responses | Average burden of response (minutes) | Estimated total annual burden (hours)
Verification of Prisoner Identity Statements | 1,000 | 200 | 200,000 | 3 | 10,000

9. Notification of a Social Security Number (SSN) To An Employer for Wage Reporting—20 CFR 422.103(a)—0960-0778. Individuals applying for employment must provide a Social Security Number, or indicate they have applied for one. However, when an individual applies for an initial SSN, there is a delay between the assignment of the number and the delivery of the SSN card. At an individual's request, SSA uses Form SSA-132 to send the individual's SSN to an employer. Mailing this information to the employer: (1) Ensures the employer has the correct SSN for the individual; (2) allows SSA to receive correct earnings information for wage reporting purposes; and (3) reduces the delay in the initial SSN assignment and delivery of the SSN information directly to the employer. It also enables SSA to verify the employer as a safeguard for the applicant's personally identifiable information. The majority of individuals who take advantage of this option are in the United States with exchange visitor and student visas; however, we allow any applicant for an SSN to use the SSA-132. The respondents are individuals applying for an initial SSN who ask SSA to mail confirmation of their application or the SSN to their employers.

Type of Request: Revision of an OMB-approved information collection.

Modality of completion | Number of respondents | Frequency of response | Average burden of response (minutes) | Estimated total annual burden (hours)
SSA-132 | 326,000 | 1 | 2 | 10,867

10. Social Security Administration Health IT Partner Program Assessment—Participating Facilities and Available Content Form—20 CFR 404.1614 and 416.1014—0960-0798. The Health Information Technology for Economic and Clinical Health (HITECH) Act promotes the adoption and meaningful use of health information technology (IT), particularly in the context of working with government agencies. Similarly, section 3004 of the Public Health Service Act requires health care providers or health insurance issuers with government contracts to implement, acquire, or upgrade their health IT systems and products to meet adopted standards and implementation specifications. To support expansion of SSA's health IT initiative as defined under HITECH, SSA developed Form SSA-680, the Health IT Partner Program Assessment—participating Facilities and Available Content Form. The SSA-680 allows healthcare providers to provide the information SSA needs to determine their ability to exchange health information with us electronically. We evaluate potential partners (i.e., healthcare providers and organizations) on: (1) The accessibility of health information they possess; and (2) the content value of their electronic health records' systems for our disability adjudication processes. SSA reviews the completeness of organizations' SSA-680 responses as one part of our careful analysis of their readiness to enter into a health IT partnership with us. The respondents are healthcare providers and organizations exchanging information with the agency.

Type of Request: Extension of an OMB-approved information collection.

Modality of completion | Number of respondents | Frequency of response | Average burden of response (hours) | Estimated total annual burden (hours)
SSA-680 | 30 | 1 | 5 | 150

II. SSA submitted the information collection below to OMB for clearance. Your comments regarding this information collection would be most useful if OMB and SSA receive them 30 days from the date of this publication. To be sure we consider your comments, we must receive them no later than July 9, 2018. Individuals can obtain copies of the OMB clearance packages by writing to OR.Reports.Clearance@ssa.gov.

Statement of Reclamation Action—31 CFR 210—0960-0734. Regulations governing the Federal Government Participation in the Automated Clearing House: (1) Allow SSA to send Social Security payments to Canada; and (2) mandate the reclamation of funds paid erroneously to a Canadian bank, or financial institution, after the death of a Social Security beneficiary. SSA uses Form SSA-1713, Notice of Reclamation Action, to determine if, how, and when the Canadian bank or financial institution is going to return erroneous payments after the death of a Social Security beneficiary who elected to have payments sent to Canada. Form SSA-1712 (or SSA-1712 CN), Notice of Reclamation-Canada Payment Made in the United States, is the cover sheet SSA prepares to request return of the payment. The respondents are Canadian banks and financial institutions who erroneously received Social Security payments.

Type of Request: Revision of an OMB-approved information collection.

Modality of completion | Number of respondents | Frequency of response | Average burden of response (minutes) | Estimated total annual burden (hours)
SSA-1712 | 8 | 1 | 5 | 1
SSA-1713 | 7 | 1 | 5 | 1
Totals | 15 |  |  | 2

Dated: June 4, 2018.
Faye Lipsky,
Reports Clearance Director, Social Security Administration.

[FR Doc. 2018-12391 Filed 6-7-18; 8:45 am]

BILLING CODE 4191-02-P